DEPARTMENT OF JUSTICE

Notice of Lodging of Consent Decree Under the Comprehensive Environmental Response, Compensation, and Liability Act (“CERCLA”)

In accordance with Departmental policy, see 28 CFR 50.7, 38 FR 19029, and 42 U.S.C. 9622(d)(2), notice is hereby given that on July 31, 2001, a proposed Consent Decree in United States v. Commerce Holding Company, Inc., No. 00-CV-1249 (DRH/ETB) (E.D.N.Y.), was lodged with the United States District Court for the Eastern District of New York. The proposed Consent Decree settles the United States's claims for past response costs against the Commerce Holding Company, Inc. (“Commerce”) for the Tronic Plating Superfund Site (“the Site”) under Section 107 of the Comprehensive Environmental Response, Compensation, and Liability Act (CERCLA), 42 U.S.C. 9607. Under the terms of the proposed consent decree, Commerce will pay at least $631,442.02 and up to $650,000, depending on the timing of the payment, to the United States as reimbursement for the past response costs the United States incurred at the Site.

The Department of Justice will receive, for a period of thirty (30) days from the date of this publication, comments relating to the proposed consent decree. Comments should be addressed to the Assistant Attorney General for the Environment and Natural Resources Division, Department of Justice, P.O. Box 7611, Ben Franklin Station, Washington, D.C. 20044-7611, and should refer to United States v. Commerce Holding Company, Inc., No. 00-CV-1249 (DRH/ETB) (E.D.N.Y.) D.J. Ref. 90-11-3-06298. Copies of all comments should also be sent to Alan Vinegrad, United States Attorney for the Eastern District of New York, F. Franklin Amanat, Assistant United States Attorney, One Pierrepont Plaza, 16th Floor, Brooklyn, NY 11201-2776.

The proposed consent decree may be examined at EPA Region II, Office of the Environmental Protection Agency, 290 Broadway, New York, New York 10007-1866. A copy of the consent decree may also be obtained by mail from the Department of Justice Consent Decree Library, P.O. Box 7611, Washington, DC 20044. In requesting a copy, please enclose a check in the amount of $4.50 (25 cents per page reproduction cost) payable to the Consent Decree Library.

Ronald G. Gluck,
Assistant Section Chief, Environmental Enforcement Section, Environment and Natural Resources Division—U.S. Department of Justice.

[FR Doc. 01-21373 Filed 8-23-01; 8:45 am]

BILLING CODE 4410-15-M